DEPARTMENT OF ENERGY

Federal Energy Regulatory Commission

[Project No. 2210-095]

Appalachian Power Company; Notice of Availability of Draft Environmental Assessment

June 28, 2004.

In accordance with the National Environmental Policy Act of 1969 and the Federal Energy Regulatory Commission's (Commission) regulations, 18 CFR part 380, the Office of Energy Projects has reviewed Appalachian Power Company's application requesting approval to permit Resource Partners, L.L.C. (permittee) to install and operate fifteen stationary docks with a total of 62 covered boat slips and 30 floaters. Fourteen of the docks have four slips each and one dock has six slips. Each dock has two floaters, one on each side of the structure. There is one slip proposed per townhouse and the slips are being clustered into 15 docks. All of the described work is to take place within the project boundary of the Smith Mountain Project at the Cottages of Contentment Island development located along the Blackwater River portion of Smith Mountain Lake. A Draft Environmental Assessment (DEA) has been prepared for the proposal.

The DEA contains the staff's analysis of the potential environmental impacts of the project and concludes that approving the request with modifications would not constitute a major Federal action significantly affecting the quality of the human environment.

A copy of the DEA is available for review at the Commission in the Public Reference Room or may be viewed on the Commission's Web site at http://www.ferc.gov using the “eLibrary” link. Enter the docket number P-2210 in the docket number field to access the document. For assistance, contact FERC Online Support at FERCOnlineSupport@ferc.gov or toll-free at 1-866-208-3676, or for TTY, (202) 502-8659.

Any comments should be filed within 30 days from the date of this notice and should be addressed to Magalie R. Salas, Secretary, Federal Energy Regulatory Commission, 888 First Street, NE., Washington, DC 20426. Please affix Project No. 2210-095 to all comments. Comments may be filed electronically via the Internet in lieu of paper. See 18 CFR 385.2001(a)(1)(iii) and the instructions on the Commission's Web site (http://www.ferc.gov) under the “e-Filing” link. The Commission strongly encourages electronic filings.

You may also register online at http://www.ferc.gov/docs-filing/esubscription.asp to be notified via e-mail of new filings and issuances related to this or other pending projects.

For further information, contact Heather Campbell at (202) 502-6182.

Magalie R. Salas,
Secretary.

[FR Doc. E4-1479 Filed 7-6-04; 8:45 am]

BILLING CODE 6717-01-P